DEPARTMENT OF TRANSPORTATION

Surface Transportation Board

[Docket No. EP 290 (Sub-No. 4)]

Railroad Cost Recovery Procedures—Productivity Adjustment

AGENCY: Surface Transportation Board, DOT.

ACTION: Proposed railroad cost recovery procedures productivity adjustment.

SUMMARY: In a decision served on February 13, 2015, we proposed to adopt 1.007 (0.7% per year) as the measure of average change in railroad productivity for the 2009-2013 (5-year) averaging period. This value represents a decrease of 0.3% from the average for the 2008-2012 period. The Board's February 13, 2015 decision in this proceeding stated that comments may be filed addressing any perceived data and computational errors in our calculation. It also stated that, if there were no further action taken by the Board, the proposed productivity adjustment would become effective on March 1, 2015.

DATES: The productivity adjustment is effective March 1, 2015. Comments are due by February 25, 2015.

ADDRESSES: Send comments (an original and 10 copies) referring to Docket No. EP 290 (Sub-No. 4) to: Surface Transportation Board, 395 E Street SW., Washington, DC 20423-0001.

FOR FURTHER INFORMATION CONTACT: Michael Smith, (202) 245-0322. Federal Information Relay Service (FIRS) for the hearing impaired, (800) 877-8339.

SUPPLEMENTARY INFORMATION: Additional information is contained in the Board's decision, which is available on our Web site at http://www.stb.dot.gov. Copies of the decision may be purchased by contacting the Board's Office of Public Assistance, Governmental Affairs, and Compliance at (202) 245-0236. Assistance for the hearing impaired is available through FIRS at (800) 877-8339.

This action will not significantly affect either the quality of the human environment or the conservation of energy resources.

Decided: February 12, 2015.
By the Board, Acting Chairman Miller and Vice Chairman Begeman.
Brendetta S. Jones,
Clearance Clerk.

[FR Doc. 2015-03501 Filed 2-18-15; 8:45 am]

BILLING CODE 4915-01-P